DEPARTMENT OF DEFENSE

Department of the Air Force

[Docket ID: USAF-2021-HQ-0008]

Submission for OMB Review; Comment Request

AGENCY: Air Combat Command (ACC), Department of Defense (DoD).

ACTION: 30-Day information collection notice.

SUMMARY: The Department of Defense has submitted to OMB for clearance the following proposal for collection of information under the provisions of the Paperwork Reduction Act.

DATES: Consideration will be given to all comments received by March 24, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION: Title; Associated Form; and OMB Number: Isolated Personnel Report and Personnel Recovery Mission Software Web Application; DD Form 1833; OMB Control Number 0701-0166.

Type of Request: Extension.

Number of Respondents: 2,864.

Responses per Respondent: 1.

Annual Responses: 2,864.

Average Burden per Response: 15 minutes.

Annual Burden Hours: 716.

Needs and Uses: Information collected using the DD Form 1833 is necessary to positively identify, authenticate, support and recover isolated or missing DoD persons of interest. The Isolated Personnel Report (ISOPREP) collects controlled unclassified information in the form of full name and associates the name with sensitive personal identifiable information including date of birth, Social Security number, DoD Identification number, pictures and fingerprints. The ISOPREP also collects confidential information in the form of personal authentication statements and codes known only to the individual who completes the ISOPREP. All personnel completing an initial ISOPREP are required to utilize the Personnel Recovery Mission Software (PRMS) web application. In rare instances where personnel do not have access to PRMS, a hardcopy DD Form 1833 can be completed. In the interest of protecting the force and returning personnel who support the DoD to their units, families and country, the information collected for the ISOPREP is a force requirement for DoD military and civilians serving overseas.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: February 15, 2022.
Aaron T. Siegel,
Alternate OSD Federal Register Liaison Officer, Department of Defense.

[FR Doc. 2022-03728 Filed 2-18-22; 8:45 am]

BILLING CODE 5001-05-P